FEDERAL COMMUNICATIONS COMMISSION

Notice of Public Information Collection(s) Being Reviewed by the Federal Communications Commission, Comments Requested

December 18, 2002.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 24, 2003. If you anticipate that you will be submitting comments, but find it difficult to do so within the period of time allowed by this notice, you should advise the contact listed below as soon as possible.

ADDRESSES: Direct all comments to Judith Boley Herman, Federal Communications Commission, Room 1-C804 or Room 1-A804, 445 12th Street, SW., Washington, DC 20554 or via the Internet to jboley@fcc.gov.

FOR FURTHER INFORMATION CONTACT: For additional information or copies of the information collection(s), contact Judith Boley Herman at (202) 418-0214 or via the Internet at jboley@fcc.gov.

SUPPLEMENTARY INFORMATION: OMB Control No.: 3060-XXXX.

Title: FCC Wireless Telecommunications Bureau Technical Support Request Form.

Form No.: N/A.

Type of Review: New collection.

Respondents: Business or other for-profit, not-for-profit institutions, individuals or households, and state, local or tribal government.

Number of Respondents: 17,500.

Estimated Time Per Response: 8 minutes.

Frequency of Response: On occasion reporting requirement.

Total Annual Burden: 2,333 hours.

Total Annual Cost: $235,666.

Needs and Uses: The FCC Wireless Telecommunications Bureau supports several computer/internet-based systems used to support their licensing and auction services. In offering this service, the public often requests help or consultation with using these systems. The FCC currently receives these requests via telephone and e-mail. There is currently no burden or cost estimate for submitting these e-mails and telephone requests. A streamlined, electronic form should substantially decrease public and staff burden since all the information needed to facilitate a technical support request will now be submitted in a standard format. This will eliminate or at least minimize the need to follow-up with the customers to obtain al the information necessary to respond to their request. This form will also help presort requests to previously defined categories to all staff to respond quickly.

OMB Control No.: 3060-1009.

Title: Telecommunications Reporting Worksheet, CC Docket No. 96-45.

Form No.: FCC Form 499-M.

Type of Review: Revision of a currently approved collection.

Respondents: Business or other for-profit and not-for-profit institutions.

Number of Respondents: 1.

Estimated Time Per Response: 1 hour.

Frequency of Response: On occasion, annual, quarterly, monthly, and other reporting requirements, recordkeeping requirement, and third party disclosure requirement.

Total Annual Burden: 1 hour.

Total Annual Cost: N/A.

Needs and Uses: Pursuant to the Communications Act of 1934, as amended, telecommunications carriers (and certain other providers of telecommunications services) must contribute to the support and cost recovery mechanisms for telecommunications relay services, numbering administration, number portability, and universal service. The Commission is seeking comment on three connection-based proposals to further refine the record in the proceeding to revisit its universal service contribution methodology. If adopted, the proposals may entail altering the current reporting requirements to which interstate telecommunications carriers are subject under Part 54 of the Commission's rules.

OMB Control No.: 3060-0463.

Title: Telecommunications Services for Individuals with Hearing and Speech Disabilities and the Americans with Disabilities Act of 1990, 47 CFR part 64 (sections 64.601—64.605).

Form No.: N/A.

Type of Review: Revision of a currently approved collection.

Respondents: Business or other for-profit, and state, local or tribal government.

Number of Respondents: 5,052

Estimated Time Per Response: 6 hours.

Frequency of Response: On occasion, annual and every five year reporting requirements, third party disclosure requirement, and recordkeeping requirement.

Total Annual Burden: 26,831 hours.

Total Annual Cost: N/A.

Needs and Uses: Title IV of the Americans with Disabilities Act (ADA), which is codified at section 225 of the Communications Act of 1934, as amended (the Act), mandates that the Federal Communications Commission (FCC) ensure that interstate and intrastate telecommunications relay services (TRS) are available, to the extent possible and in the most efficient manner, to individuals in the United States with hearing and speech disabilities. Title IV aims to further the Act's goal of universal service by providing to individuals with hearing or speech disabilities telephone services that are functionally equivalent to those available to individuals without such disabilities. Since the establishment of this mandate, the Commission has taken numerous steps to increase the availability of TRS, and to ensure that TRS users have access to the same services available to all telephone service users.

Federal Communications Commission.
Marlene H. Dortch,
Secretary.

[FR Doc. 02-32478 Filed 12-24-02; 8:45 am]

BILLING CODE 6712-01-P